ENVIRONMENTAL PROTECTION AGENCY

40 CFR Parts 260 and 261

[FRL-7228-8]

RIN 2050-AE78

Extension of Comment Period for Proposed Regulation of Oil-Bearing Secondary Materials From the Petroleum Refining Industry and Other Hazardous Secondary Materials Processed in a Gasification Device To Produce Synthesis Gas

AGENCY: Environmental Protection Agency (EPA).

ACTION: Proposed rule; extension of comment period.

SUMMARY: The Environmental Protection Agency (EPA) is extending by an additional 75 days the comment period on its proposed rule (March 25, 2002 at 67 FR 13684) for revising the RCRA hazardous waste program to allow a conditional exclusion from the definition of solid waste. This conditional exclusion would be for hazardous oil-bearing secondary materials generated by the petroleum refining industry when processed in a gasification device manufacturing synthesis gas fuel and other non-fuel chemical by-products. The proposal also solicits comment on a broader conditional exclusion to other hazardous secondary materials generated by industries other than the petroleum refining industry. The comment period is being extended to provide the public with additional time to evaluate and comment on both aspects of the proposed rule. As extended by this action, the comment period will now close on September 10, 2002.

DATES: EPA will accept public comment on this proposed rule until September 10, 2002. Comments postmarked after the close of the comment period will be stamped “late” and may or may not be considered by the Agency.

ADDRESSES: Commenters must send an original and two copies of their comments referencing docket number F-2002-RPRP-FFFFF to: (1) If using regular postal mail: RCRA Docket Information Center, Office of Solid Waste (5305G), U.S. Environmental Protection Agency Headquarters (EPA-HQ), 1200 Pennsylvania Avenue, NW., Washington, DC 20460-0002; (2) If using special delivery, such as overnight express service: RCRA Docket Information Center (RIC), Crystal Gateway One, 1235 Jefferson Davis Highway, First Floor, Arlington, VA 22202; or (3) If using the Internet to: rcra-docket@epa.gov. All electronic comments must be submitted as an ASCII (text) file avoiding the use of special characters and any form of encryption. If possible, EPA's Office of Solid Waste (OSW) would also like to receive an additional copy of the comments on disk in WordPerfect 6.1 file format.

Commenters should not submit electronically any confidential business information (CBI). An original and two copies of CBI must be submitted under separate cover to: RCRA CBI Document Control Officer, Office of Solid Waste (5303W), U.S. EPA, 1200 Pennsylvania Avenue, NW, Washington, DC 20460-0002.

The official record (i.e., public docket) for the proposed rulemaking is F-2002-RPRP-FFFFF. In addition to this official record, two additional dockets have material supporting this proposal. They are: F-98-PR2A-FFFFF and F-98-RCSF-FFFFF.

Public comments and supporting materials are available for viewing in the RCRA Docket Information Center (RIC), located at Crystal Gateway I, First Floor, 1235 Jefferson Davis Highway, Arlington, VA. The RIC is open from 9 a.m. to 4 p.m., Monday through Friday, excluding Federal holidays. To review docket materials, it is recommended that the public make an appointment by calling 703-603-9230. The public may copy a maximum of 100 pages from any regulatory docket at no charge. Additional copies cost $0.15/page.

FOR FURTHER INFORMATION CONTACT: For general information, contact the RCRA Hotline at 1-800-424-9346 or TDD 1-800-553-7672 (hearing impaired). In the Washington, DC, metropolitan area, call 703-412-9810 or TDD 703-412-3323. The RCRA Hotline is open Monday-Friday, 9 am to 6 pm, Eastern Standard Time. For more detailed information on specific aspects of this proposed rulemaking, contact Elaine Eby at 703-308-8449 or eby.elaine@epa.gov, or write her at the Office of Solid Waste, 5302W, U.S. Environmental Protection Agency Headquarters (EPA, HQ) (5302W), 1200 Pennsylvania Avenue, NW., Washington, DC 20460-0002.

SUPPLEMENTARY INFORMATION: On March 25, 2002 (67 FR 13684), EPA proposed a conditional exclusion from the definition of solid waste. As noted in the proposal, the exclusion would apply to hazardous oil-bearing secondary materials (i.e., sludges, by-products, or spent materials) generated by the petroleum refining industry (Standard Industrial Classification (SIC) 2911), when processed, either on-site or off-site, in a gasification system to produce synthesis gas fuel and other non-fuel chemical by-products. As proposed, the exclusion is subject to a set of conditions that specify the following: (1) The system meets the definition of a gasification system; (2) the system generates a synthesis gas fuel that meets the specification of exempted synthesis gas; (3) the materials generated by the gasification system must not be placed on the land if they exceed the nonwastewater Universal Treatment Standards (UTS) for chromium, lead, nickel, vanadium, arsenic, and antimony (found at 40 CFR 268.48); and (4) the excluded materials must not be placed on the land or speculatively accumulated prior to insertion into the gasification system.

The proposal also solicits comment on an option to broaden the conditional exclusion to other generated hazardous secondary materials under an expanded set of conditions. These conditions include: (1) Each hazardous secondary material processed in the system contains greater than 20% by weight total organic carbon; (2) the gasification system does not process any hazardous waste which exhibits the characteristic of mercury and any hazardous waste for which mercury is a basis for listing under 40 CFR part 261, Appendix VII as hazardous secondary material; (3) the system meets the definition of a gasification system; (4) the system generates a synthesis gas fuel that meets the specification of exempted synthesis gas; (5) the materials generated by the gasification system are not placed on the land if they exceed the nonwastewater UTS for antimony, arsenic, barium, beryllium, cadmium, chromium (total), cyanides (total), cyanides (amenable), lead, mercury, nickel, selenium, silver, thallium, and vanadium; and (6) the excluded materials are not placed on the land or speculatively accumulated prior to insertion into the gasification system.

While the Agency has requested comment on all aspects of the proposal, we specifically solicit comment, information, and data on: (1) The performance of gasification on other hazardous secondary material (that are currently hazardous waste) known to contain concentrations of metals; (2) the performance of gasification on certain hazardous secondary materials that contain certain high concentration of non-contributing components (namely metals or halides); (3) potential partitioning of metals to the product synthesis gas fuel and their subsequent release during the combustion of the synthesis gas in turbines to produce power: (4) criteria for and the types of hazardous secondary materials that could be processed in a gasification system; (5) specific design and operating conditions for all components of the gasification system; (6) the market for building and operating gasification systems in the future; (7) the market for synthesis gas and other gasification products; and (8) appropriate documentation (reporting and record keeping) for those claiming this exclusion.

The Agency is extending the comment period by 75 days to accommodate requests by several parties for additional time to prepare relevant comments and to gather operating and emissions data on gasification systems permitted in Europe and Japan.

Dated: May 30, 2002.
Elizabeth A. Cotsworth,
Director, Office of Solid Waste.

[FR Doc. 02-14631 Filed 6-10-02; 8:45 am]

BILLING CODE 6560-50-P